DEPARTMENT OF DEFENSE

Department of the Army

Notice of Availability for Exclusive, Non-Exclusive, or Partially-Exclusive Licensing of an Invention Concerning the Methods and Compositions for Treating Status Epilepticus and Seizures Causing Status Epilepticus

AGENCY: Department of the Army, DoD.

ACTION: Notice.

SUMMARY: Announcement is made of the availability for licensing of the invention set forth in the PCT/US2009/060091, entitled “Methods and Compositions for Treating Status Epilepticus and Seizures Causing Status Epilepticus” filed on October 9, 2009. The United States Government, as represented by the Secretary of the Army, has rights to this invention. U.S. and selected foreign rights are available.

ADDRESSES: Commander, U.S. Army Medical Research and Materiel Command, ATTN: Command Judge Advocate, MCMR-JA, 504 Scott Street, Fort Detrick, MD 21702-5012.

FOR FURTHER INFORMATION CONTACT: For licensing issues, Dr. Paul Mele, Office of Research & Technology Applications, (301) 619-6664. For patent issues, Ms. Elizabeth Arwine, Patent Attorney, (301) 619-7808, both at telefax (301) 619-5034.

Brenda S. Bowen,
Army Federal Register Liaison Officer.

[FR Doc. 2011-14801 Filed 6-14-11; 8:45 am]

BILLING CODE 3710-08-P